DEPARTMENT OF HEALTH AND HUMAN SERVICES

Centers for Disease Control and Prevention

Disease, Disability, and Injury Prevention and Control Special Emphasis Panel (SEP): American Recovery and Reinvestment Act (ARRA)-Section 317 Immunization Program: Strengthening the Evidence Base Measuring Effectiveness of Two Dose of Varicella Vaccine, Funding Opportunity Announcement (FOA) IP04-11601ARRA09, Initial Review

In accordance with Section 10(a)(2) of the Federal Advisory Committee Act (Pub. L. 92-463), the Centers for Disease Control and Prevention (CDC) announces the aforementioned meeting.

Time and Date: 12 p.m.-2 p.m., July 28, 2009 (Closed).

Place: Teleconference.

Status: The meeting will be closed to the public in accordance with provisions set forth in Section 552b(c) (4) and (6), Title 5 U.S.C., and the Determination of the Director, Management Analysis and Services Office, CDC, pursuant to Public Law 92-463.

Matters to be Discussed: The meeting will include the initial review, discussion, and evaluation of “ARRA-Section 317 Immunization Program: Strengthening the Evidence Base Measuring Effectiveness of Two Dose of Varicella Vaccine, FOA IP04-11601ARRA09.”

For More Information Contact: Wendy Carr, PhD, CDC, 1600 Clifton Road, NE., Mailstop E60, Atlanta, GA 30333, Telephone: (404) 498-2276.

The Director, Management Analysis and Services Office, has been delegated the authority to sign Federal Register notices pertaining to announcements of meetings and other committee management activities, for both CDC and the Agency for Toxic Substances and Disease Registry.

Dated: June 12, 2009.
Elaine L. Baker,
Director, Management Analysis and Services Office Centers for Disease Control and Prevention.

[FR Doc. E9-14664 Filed 6-22-09; 8:45 am]

BILLING CODE 4163-18-P